DEPARTMENT OF EDUCATION

Submission for OMB Review; Comment Request.

AGENCY: Department of Education.

ACTION: Correction notice.

SUMMARY: On July 14, 2003, the Department of Education published a 30-day regular public comment period notice in the Federal Register (Page 41566, Column 2) for the information collection, “Case Service Report”. The “Type of Review” is being corrected from “Extension” to “Reinstatement”. The Leader, Regulatory Information Management Group, Office of the Chief Information Officer, hereby issues a correction notice as required by the Paperwork Reduction Act of 1995.

FOR FURTHER INFORMATION CONTACT: Sheila Carey at her e-mail address Sheila.Carey@ed.gov.

Dated: July 21, 2003.
Angela C. Arrington,
Leader, Regulatory Information Management Group, Office of the Chief Information Officer.

[FR Doc. 03-18950 Filed 7-24-03; 8:45 am]

BILLING CODE 4000-01-P